DEPARTMENT OF ENERGY

Federal Energy Regulatory Commission

[Docket No. AD08-9-000]

Review of Wholesale Electricity Markets; Second Notice of Conference and Agenda

June 10, 2008.

On May 12, 2008, the Federal Energy Regulatory Commission (Commission) issued a notice announcing a conference in this proceeding, to be held on July 1, 2008. As mentioned in that notice, the Commission has invited senior management and market monitors from the jurisdictional regional transmission organizations (RTOs) and independent system operators (ISOs) to provide a review of the current and future state of regional wholesale electricity markets. Members of the Commission's staff will provide an overview of the wholesale electricity markets outside of RTOs and ISOs. Attached is the agenda for the conference.

The conference will be held at the Federal Energy Regulatory Commission, 888 First Street, NE., Washington, DC 20426 in the Commission Meeting Room (2-C) from 9:30 a.m. until 4 p.m. (EDT). All interested persons are invited, and there is no registration required.

This conference will be transcribed. Transcripts of the conference will be immediately available from Ace Reporting Company (202-347-3700 or 1-800-336-6646) for a fee. It will also be web-cast. Capitol Connection offers the opportunity for remote listening and viewing of the conference. It is available for a fee, live over the Internet, by phone, or via satellite. Persons interested in receiving the broadcast, or who need information on making arrangements should contact David Reininger or Julia Morelli at the Capitol Connection (703-993-3100) as soon as possible or visit the Capitol Connection Web site at http://www.capitolconnection.gmu.edu and click on “FERC”.

Commission conferences are accessible under section 508 of the Rehabilitation Act of 1973. For accessibility accommodations please send an e-mail to accessibility@ferc.gov or call toll free 1-866-208-3372 (voice) or 202-208-1659 (TTY), or send a FAX to 202-208-2106 with the required accommodations.

Questions about the conference should be directed to Saida Shaalan by e-mail at Saida.Shaalan@FERC.gov or by phone at 202-502-8278.

Kimberly D. Bose,
Secretary.

Agenda

9:30

Opening Remarks.

9:45

ISO New England, Inc.,Gordon Van Welie, President and Chief Executive Officer, Hung-po Chao, Director, Market Monitoring.

New York Independent System Operator, Karen Antion, Interim Chief Executive Officer, David Patton, President, Potomac Economics.

PJM Independent System Operator, Inc., W. Terry Boston, President and Chief Executive Officer, Joseph Bowring, Manager, Market Monitoring Unit.

12

Break.

1

California Independent System Operator, Yakout Mansour, President and Chief Executive Officer, Keith Casey, Director, Department of Market Monitoring, Frank Wolak, Chairman, Market Surveillance Committee.

1:45

Midwest Independent Transmission System Operator, T. Graham Edwards, President and Chief Executive Officer, David Patton, President, Potomac Economics.

Southwest Power Pool, Inc., Nick Brown, President and Chief Executive Officer, Richard Dillon, Director, Market Development and Analysis.

3:15

South and West Regions, Charles Whitmore, Senior Market Advisor, Division of Energy Market Oversight, Office of Enforcement.

4

Adjourn.

[FR Doc. E8-13539 Filed 6-16-08; 8:45 am]

BILLING CODE 6717-01-P